DEPARTMENT OF COMMERCE

National Oceanic and Atmospheric Administration

50 CFR Part 635

[I.D. 110206A]

RIN 0648-AU86

Atlantic Highly Migratory Species (HMS); U.S. Atlantic Swordfish Fishery Management Measures

AGENCY: National Marine Fisheries Service (NMFS), National Oceanic and Atmospheric Administration (NOAA), Commerce.

ACTION: Notification of public hearings.

SUMMARY: NMFS published a proposed rule on November 28, 2006, to amend regulations governing the U.S. Atlantic swordfish fishery that would provide a reasonable opportunity for U.S. vessels to more fully harvest the domestic U.S. North Atlantic swordfish quota. This notice announces the dates, locations, and times of seven public hearings to obtain public comment on the proposed rule. Comments received at these hearings will assist NMFS in selecting management measures to more fully utilize the International Commission on the Conservation of Atlantic Tunas (ICCAT)-recommended U.S. North Atlantic swordfish quota in recognition of the improved stock status of North Atlantic swordfish. These public hearings will be combined with scoping meetings on potential shark management measures that require an amendment to the Consolidated Atlantic Highly Migratory Species Fishery Management Plan (HMS FMP). Notice of the shark scoping meetings is published today in a separate Federal Register document.

DATES: Public hearings will be held in January 2007. For specific dates and times, see SUPPLEMENTARY INFORMATION.

As published on November 28, 2006 (71 FR 68784), written comments on the proposed rule must be received no later than 5 p.m. January 31, 2007.

ADDRESSES: Public hearings will be held in Madeira Beach, FL; Fort Pierce, FL; Destin, FL; Manteo, NC; Houma, LA; Gloucester, MA; and Manahawkin, NJ. See SUPPLEMENTARY INFORMATION for details.

As published on November 28, 2006 (71 FR 68784), written comments on the proposed rule should be mailed to Sari Kiraly, Highly Migratory Species Management Division by any of the following methods:

• E-mail: SF1.110206A@noaa.gov. Include in the subject line the following identifier: “I.D. 110206A.”

• Written: 1315 East-West Highway, Silver Spring, MD 20910. Please mark the outside of the envelope “Comments on Swordfish Revitalization Proposed Rule.”

• Fax: (301) 713-1917.

• Federal e-Rulemaking Portal: http://www.regulations.gov.

Copies of the Draft Environmental Assessment, proposed rule, the 2006 Consolidated HMS FMP and other relevant documents are available from the Highly Migratory Species Management Division website at http://www.nmfs.noaa.gov/sfa/hms or by contacting Sari Kiraly (see FOR FURTHER INFORMATION CONTACT).

FOR FURTHER INFORMATION CONTACT: Sari Kiraly at (301) 713-2347, Michael Clark at (301) 713-2347, or Richard Pearson (727) 824-5399.

SUPPLEMENTARY INFORMATION: The Atlantic swordfish fishery is managed under the authority of the Magnuson-Stevens Fishery Conservation and Management Act and the Atlantic Tunas Convention Act. The Consolidated HMS FMP is implemented by regulations at 50 CFR part 635.

On November 28, 2006 (71 FR 68784), NMFS published a proposed rule that summarized options that may increase opportunities for U.S. vessels to fully harvest the ICCAT-recommended U.S. North Atlantic swordfish quota. That proposed rule would increase swordfish retention limits for incidental swordfish permit holders, and modify recreational swordfish retention limits for HMS Charter/Headboat and Angling category permit holders. The proposed rule would also modify HMS limited access vessel upgrading restrictions for pelagic longline (PLL) vessels. These actions would address persistent underharvests of the domestic swordfish quota, while continuing to minimize bycatch to the extent practicable, so that swordfish are harvested in a sustainable, yet economically viable manner. The comment period on the proposed rule ends on January 31, 2007.

Request for Comments

Seven public hearings will be held in January 2007 to provide the public an opportunity to comment on proposed swordfish management measures (November 28, 2006; 71 FR 68784) to be included in the upcoming final rule. These public hearings will be held in conjunction with scoping meetings for an amendment to the HMS FMP to gather comments on implementing future shark management measures. Information regarding the scoping meetings for potential shark management measures is published today in a separate Federal Register notice. The time allotted to swordfish and shark management measures will be distributed accordingly to provide ample opportunity for the public to comment on both topics. Time may be split equally or additional time may be allotted to either shark or swordfish measures, as necessary, depending on the attendees' primary interests.

Hearing Dates, Times, and Locations

Public hearings for the November 28, 2006 (71 FR 68784) proposed rule are scheduled as follows:

1. Wednesday, January 17, 2007, 6-9 p.m. Northeast Regional Office, One Blackburn Drive, Gloucester, MA 01930.

2. Thursday, January 18, 2007, 6-9 p.m. City of Madeira Beach, 300 Municipal Drive, Madeira Beach, FL 33708.

3. Thursday, January 18, 2007, 6-9 p.m. Manahawkin Public Library, 129 North Main Street, Manahawkin, NJ 08050.

4. Tuesday, January 23, 2007, 6-9 p.m. Destin Community Center, 101 Stahlman Avenue, Destin, FL 32541.

5. Thursday, January 25, 2007, 6-9 p.m. Bayou Black Recreational Center, 3688 Southdown Mandalay Road, Houma, LA 70360.

6. Tuesday, January 30, 2007, 6-9 p.m. Fort Pierce Library, 101 Melody Lane, Fort Pierce, FL 34950.

7. Wednesday, January 31, 2007, 6-9 p.m. Manteo Town Hall, 407 Budleigh Street, Manteo, NC 27954.

Public Hearings Code of Conduct

The public is reminded that NMFS expects participants at the public hearings to conduct themselves appropriately. At the beginning of each hearing, a representative of NMFS will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

The hearings are physically accessible to people with disabilities. Requests for sign language interpretation or other auxiliary aids should be directed to Michael Clark (see FOR FURTHER INFORMATION CONTACT) at least 7 days prior to the hearing.

Authority: 16 U.S.C et seq.; 16 U.S.C. 1801 et seq.

Dated: December 26, 2006.
Karyl K. Brewster-Geisz,
Acting Director, Office of Sustainable Fisheries, National Marine Fisheries Service.

[FR Doc. E6-22512 Filed 12-29-06; 8:45 am]

BILLING CODE 3510-22-S